DEPARTMENT OF COMMERCE

Bureau of the Census

[Docket Number 121017555-2688-01]

Annual Surveys in the Manufacturing Area

AGENCY: Bureau of the Census, Department of Commerce.

ACTION: Notice of Determination.

SUMMARY: The Bureau of the Census (Census Bureau) is conducting the 2013 Annual Surveys in the Manufacturing Area. The 2013 Annual Surveys consist of the Annual Survey of Manufactures, the Business R&D and Innovation Survey, and the Manufacturers' Unfilled Orders Survey. We have determined that annual data collected from these surveys are needed to aid the efficient performance of essential governmental functions, and have significant application to the needs of the public and industry. The data derived from these surveys, most of which have been conducted for many years, are not publicly available from nongovernmental or other governmental sources. For more information on these surveys (e.g. forms and reporting instructions, due dates, etc.), visit the Census Bureau's Business Help Site and select the survey name.

ADDRESSES: The Census Bureau will furnish report forms to organizations included in the survey. Additional copies are available upon written request to the Director, U.S. Census Bureau, Washington, DC 20233-0101.

FOR FURTHER INFORMATION CONTACT: Mendel D. Gayle, Chief, Manufacturing and Construction Division at (301) 763-4587 or by email at mendel.d.gayle@census.gov.

SUPPLEMENTARY INFORMATION: The Census Bureau is authorized to conduct mandatory surveys necessary to furnish current data on the subjects covered by the major censuses authorized by Title 13, United States Code, sections 61, 81, 131, 182, 193, 224, and 225. Under this authority, the Bureau of the Census (Census Bureau) is conducting the 2013 Annual Surveys in the Manufacturing Area. The 2013 Annual Surveys consist of the Annual Survey of Manufactures, the Business R&D and Innovation Survey, and the Manufacturers' Unfilled Orders Survey.

The three surveys that will be conducted in 2013 will provide continuing and timely national statistical data on manufacturing for the period between economic censuses. The data collected in the surveys will be within the general scope and nature of those inquiries covered in the economic census. The next economic census will be conducted for the year 2017.

Annual Survey of Manufactures

The Annual Survey of Manufactures collects industry statistics, such as total value of shipments, employment, payroll, workers' hours, capital expenditures, cost of materials consumed, supplemental labor costs, and other data related to manufacturing. This survey is conducted on a sample basis, and covers all manufacturing industries, including data on plants under construction, but not yet in operation.

Business R&D and Innovation Survey

The Business R&D and Innovation Survey (BRDIS) measures spending on research and development activities by United States businesses. This survey replaced the Survey of Industrial Research and Development that had been collected since the 1950's. The BRDIS collects global as well as domestic spending information, more detailed information about the R&D workforce, and information regarding innovation and intellectual property from U.S. businesses. The Census Bureau collects and compiles this information in accordance with a joint project agreement between the National Science Foundation (NSF) and the Census Bureau. The NSF publishes the results in its publication series. All data items are collected on a mandatory basis under the authority of Title 13, United States Code.

Manufacturers' Unfilled Orders Survey

The Manufacturers' Unfilled Orders Survey collects data on sales and unfilled orders in order to provide annual benchmarks for unfilled orders for the monthly Manufacturers' Shipments, Inventories, and Orders (M3) survey. The survey data will also be used to determine whether it is necessary to collect unfilled orders data for specific industries on a monthly basis; some industries are not requested to provide unfilled orders data on the M3 Survey.

Notwithstanding any other provision of law, no person is required to respond to, nor shall a person be subject to a penalty for failure to comply with a collection of information subject to the requirements of the Paperwork Reduction Act (PRA) unless that collection of information displays a current valid Office of Management and Budget (OMB) control number. In accordance with the PRA, 44 U.S.C., Chapter 45, OMB approved the Annual Surveys under the following OMB control numbers: Annual Survey of Manufactures, 0607-0449; Business R&D and Innovation Survey, 0607-0912; and Manufacturers' Unfilled Orders Survey, 0607-0561.

Based upon the foregoing, I have directed that the Annual Surveys in the Manufacturing Area be conducted for the purpose of collecting these data.

Dated: January 3, 2013.
Thomas L. Mesenbourg, Jr.,
Acting Director, Bureau of the Census.

[FR Doc. 2013-00235 Filed 1-8-13; 8:45 am]

BILLING CODE 3510-07-P